NUCLEAR REGULATORY COMMISSION

[NRC-2009-0186]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on June 11, 2009.

1. Type of submission: new, revision, or extension: Extension.

2. The title of the information collection: Policy Statement on Cooperation with States at Commercial Nuclear Power Plants and Other Production or Utilization Facilities.

3. Current OMB approval number: 3150-0163.

4. The form number if applicable: N/A.

5. How often the collection is required: On occasion, when a State wishes to observe NRC inspections or perform inspections for NRC.

6. Who will be required or asked to report: Those States interested in observing or performing inspections.

7. An estimate of the number of annual responses: 80.

8. The estimated number of annual respondents: 56 (50 for nuclear facility licensees + 6 for materials security licensees).

9. An estimate of the total number of hours needed annually to complete the requirement or request: 800 hours (approximately 10 hours per response).

10. Abstract: States wishing to enter into an agreement with NRC to observe or participate in NRC inspections at nuclear power facilities or conduct materials security inspections against NRC Orders are requested to provide certain information to the NRC to ensure close cooperation and consistency with the NRC inspection program, as specified by the Commission's Policy of Cooperation with States at Commercial Nuclear Power Plants and Other Nuclear Production or Utilization Facilities and Section 274i of the Atomic Energy Act, as amended.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by October 16, 2009. Comments received after this date will be considered if it is practical to do so, but assurance of consideration cannot be given to comments received after this date. Christine J. Kymn, Office of Information and Regulatory Affairs (3150-0163), NEOB-10202, Office of Management and Budget, Washington, DC 20503.

The NRC Acting Clearance Officer is Tremaine Donnell, (301) 415-6258.

Dated at Rockville, Maryland, this 3rd day of September 2009.
For the Nuclear Regulatory Commission.
Tremaine Donnell,
Acting NRC Clearance Officer, Office of Information Services.

[FR Doc. E9-22327 Filed 9-15-09; 8:45 am]

BILLING CODE 7590-01-P